DEPARTMENT OF AGRICULTURE

Animal and Plant Health Inspection Service

[Docket No. 00-054-1]

Notice of Request for Approval of an Information Collection

AGENCY: Animal and Plant Health Inspection Service, USDA.

ACTION: New information collection; comment request.

SUMMARY: In accordance with the Paperwork Reduction Act of 1995, this notice announces the Animal and Plant Health Inspection Service's intention to request approval of additional information collections, Feedlot '99 and Ongoing Monitoring, in support of the National Animal Health Monitoring System. These collection activities will include conducting a national study on feedlot cattle, increasing the number of participants in the sentinel feedlot monitoring study as part of our ongoing monitoring, and collecting antimicrobial susceptibility testing results from veterinary diagnostic laboratories as a new component to ongoing monitoring.

DATES: We invite you to comment on this docket. We will consider all comments that we receive by September 25, 2000.

ADDRESSES: Please send your comment and three copies to: Docket No. 00-054-1, Regulatory Analysis and Development, PPD, APHIS, Suite 3C03, 4700 River Road, Unit 118, Riverdale, MD 20737-1238

Please state that your comment refers to Docket No. 00-054-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information on the national feedlot study and ongoing monitoring data collection activities, contact Ms. Marj Swanson, Management Analyst, Centers for Epidemiology and Animal Health, VS, APHIS, 555 S. Howes, Fort Collins, CO 80521; (970) 490-7978. For copies of more detailed information on the information collection, contact Ms. Cheryl Groves, APHIS' Information Collection Coordinator, at (301) 734-5086.

SUPPLEMENTARY INFORMATION: Title: National Animal Health Monitoring System (Feedlot '99 and Ongoing Monitoring).

OMB Number: 0579-XXXX.

Type of Request: Approval of a new information collection.

Abstract: The United States Department of Agriculture is responsible for protecting the health of our nation's livestock and poultry populations by preventing the importation and interstate spread of contagious, infectious, or communicable diseases of livestock and poultry and for eradicating such diseases from the United States when feasible. In connection with this mission, the Animal and Plant Health Inspection Service operates the National Animal Health Monitoring System (NAHMS), which collects, on a national basis, statistically valid and scientifically sound data on the prevalence and economic importance of livestock and poultry diseases. Information from these studies is disseminated and used by livestock and poultry producers, consumers, animal health officials, private veterinary practitioners, animal industry groups, policymakers, public health officials, the media, educational institutions, and others to improve agriculture's productivity and competitiveness.

NAHMS' national studies have evolved into a collaborative industry and government initiative to help improve product quality and to determine the most effective means of producing animal and poultry products. We are the only agency responsible for collecting national data on animal and poultry health. Participation in any NAHMS study is voluntary, and all data are confidential.

Feedlot '99: The Feedlot '99 study is NAHMS' second national study of the beef feedlot industry. The NAHMS' 1994 Cattle on Feed Evaluation results provided producer-requested baseline information that will be used with Feedlot '99 information to identify trends in animal health and management practices over the past 5 years. NAHMS is requesting approval to collect data from feedlot operators in the United States. The data collected through the national study will be used to: (1) Describe the changes in management practices and animal health in feedlots from 1994 to 1999; (2) describe management practices that might affect product quality; (3) identify factors associated with shedding of specific pathogens by feedlot cattle; (4) describe antimicrobial usage in feedlots; (5) describe animal health management practices in feedlots and the relationship to cattle health; and (6) identify priority areas for prearrival processing of cattle and calves.

Sentinel Feedlot Monitoring: Sentinel feedlot monitoring is a low-cost, high-impact method of continually monitoring the multibillion dollar cattle feeding industry for death and disease trends. NAHMS collects limited data from private veterinary practitioners and uses it to assess the industry and monitor for emerging issues. This ongoing monitoring activity originally started with data being reported on 15 percent of the cattle on feed in the United States. NAHMS is requesting that the number of cattle monitored be increased to 20 percent.

Antimicrobial Susceptibility Testing Study: The ability of bacteria to resist the effects of antimicrobials has become a global issue affecting both animal and human health. Despite a growing concern that antimicrobial resistance is affecting health, there is a lack of data to monitor trends and make timely decisions about antimicrobial selection and use. An extensive amount of antimicrobial resistance testing is carried out in veterinary diagnostic laboratories across the country but, to date, has not been collected and analyzed. NAHMS is requesting approval to collect, aggregate, and summarize data from the veterinary diagnostic laboratories. The objectives of this study are to: (1) Survey diagnostic laboratories to determine how they conduct antimicrobial resistance testing, store data, and if they would be willing to contribute data to a central clearinghouse; and (2) initiate collection of data from a geographically diverse sample of laboratories to test the feasibility and usefulness of such a system.

We are asking the Office of Management and Budget (OMB) to approve these information collection activities.

The purpose of this notice is to solicit comments from the public (as well as affected agencies) concerning these information collection activities. These comments will help us:

(1) Evaluate whether the information collection is necessary for the proper performance of our Agency's functions, including whether the information will have practical utility;

(2) Evaluate the accuracy of our estimate of the burden of the information collection, including the validity of the methodology and assumptions used;

(3) Enhance the quality, utility, and clarity of the information to be collected; and

(4) Minimize the burden of the collection of information on those who are to respond, through use, as appropriate, of automated, electronic, mechanical, and other collection technologies, e.g., permitting electronic submission of responses.

Estimate of burden: The public reporting burden for this collection of information is estimated to average 1.0364 hours per response.

Respondents: Industry personnel, private veterinary practitioners, company and independent producers, academicians, State veterinary medical officers, State Public Health Officials as well as other interested parties involved with animal health and management practices in the United States.

Estimated annual number of respondents: 4466.

Estimated annual number of responses per respondent: 1.2651.

Estimated annual number of responses: 5,650.

Estimated total annual burden on respondents: 5,856. (Due to rounding, the total annual burden hours may not equal the product of the annual number of responses multiplied by the average reporting burden per response.)

All responses to this notice will be summarized and included in the request for OMB approval. All comments will also become a matter of public record.

Done in Washington, DC, this 18th day of July 2000.
Bobby R. Acord,
Acting Administrator, Animal and Plant Health Inspection Service.

[FR Doc. 00-18691 Filed 7-24-00; 8:45 am]

BILLING CODE 3410-34-P